COMMITTEE FOR PURCHASE FROM PEOPLE WHO ARE BLIND OR SEVERELY DISABLED

Procurement List; Proposed Additions and Deletions

AGENCY: Committee for Purchase from People Who Are Blind or Severely Disabled.

ACTION: Proposed additions to and deletions from the Procurement List.

SUMMARY: The Committee is proposing to add product(s) and service(s) to the Procurement List that will be furnished by nonprofit agencies employing persons who are blind or have other severe disabilities, and delete product(s) and service(s) previously furnished by such agencies.

DATES: Comments must be received on or before: April 16, 2023.

ADDRESSES: Committee for Purchase from People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

8520-01-490-7358—Instant Hand Sanitizer, Gel, Portable Flip Cap Bottle, 4oz

8520-01-490-7370—Soap, Antibacterial, Pump Bottle, 12oz

Designated Source of Supply: Travis Association for the Blind, Austin, TX

Contracting Activity: FEDERAL ACQUISITION SERVICE, GSA/FSS GREATER SOUTHWEST ACQUISITI

Distribution: B-List

Mandatory for: Broad Government Requirement

Service(s)

Service Type: Custodial Service

Mandatory for: NASA, NASA Langley Research Center, Hampton, VA

Designated Source of Supply: Brevard Achievement Center, Inc., Rockledge, FL

Contracting Activity: NATIONAL AERONAUTICS AND SPACE ADMINISTRATION, NASA LANGLEY RESEARCH CENTER

Deletions

The following product(s) and service(s) are proposed for deletion from the Procurement List:

Product(s)

NSN(s)—Product Name(s): 2540-00-473-0111—Kit, Deep Water Fording

Designated Source of Supply: The Opportunity Center Easter Seal Facility—The Ala ES Soc, Inc., Anniston, AL

Contracting Activity: DLA LAND AND MARITIME, COLUMBUS, OH

NSN(s)—Product Name(s): 7520-01-484-5256—Pen, Ball Point, Retractable, Ergonomic, MD Ergo Grip, Blue Barrel, Blue Ink, Medium Point

Designated Source of Supply: Industries for the Blind and Visually Impaired, Inc., West Allis, WI

Contracting Activity: GSA/FAS ADMIN SVCS ACQUISITION BR(2, NEW YORK, NY

NSN(s)—Product Name(s): 8115-01-499-0898—Shipping Box, Type II, Style D, Brown, XD-4, 6″ x 9″ x 4½″

Designated Source of Supply: Tarrant County Association for the Blind, Fort Worth, TX

Contracting Activity: GSA/FAS ADMIN SVCS ACQUISITION BR(2, NEW YORK, NY

NSN(s)—Product Name(s): 8955-01-E60-8859—Coffee, Roasted, Ground, 39 oz. bag, S&D

Designated Source of Supply: CW Resources, Inc., New Britain, CT

Contracting Activity: DLA TROOP SUPPORT, PHILADELPHIA, PA

Service(s)

Service Type: Custodial and Related Services

Mandatory for: GSA PBS Region 8, Missoula Federal Building, 200 East Broadway, Missoula, MT

Designated Source of Supply: Opportunity Resources, Inc., Missoula, MT

Contracting Activity: PUBLIC BUILDINGS SERVICE, PBS R8

Service Type: Document Destruction Service

Mandatory for: Social Security ODAR, Falls Church, VA (offsite: 9104 Red Branch Road, Columbia, MD), One Skyline Tower, 5107 Leesburg Pike, Falls Church, VA

Contracting Activity: SOCIAL SECURITY ADMINISTRATION, SOCIAL SECURITY ADMINISTRATION

Michael R. Jurkowski,
Acting Director, Business Operations.

[FR Doc. 2023-05499 Filed 3-16-23; 8:45 am]

BILLING CODE 6353-01-P